NUCLEAR REGULATORY COMMISSION

[Docket No. 50-263; ASLBP No. 05-841-02-LR]

In the Matter of Nuclear Management Company, LLC; Establishment of Atomic Safety and Licensing Board

Pursuant to delegation by the Commission dated December 29, 1972, published in the Federal Register, 37 FR 28,710 (1972), and the Commission's regulations, see 10 CFR 2.104, 2.300, 2.303, 2.309, 2.311, 2.318, and 2.321, notice is hereby given that an Atomic Safety and Licensing Board is being established to preside over the following proceeding:

Nuclear Management Company, LLC (Monticello Nuclear Generating Plant)

This proceeding concerns a July 9, 2005 request for hearing submitted by petitioner North American Water Office, in response to a May 5, 2005 notice of opportunity for hearing, 70 FR 25,117 (May 12, 2005), regarding the March 16, 2005 application of Nuclear Management Company, LLC, (NMC) for renewal of the operating license for its Monticello Nuclear Generating Plant. In its application, NMC requests that the operating license for its Monticello facility be extended for an additional twenty years beyond the period specified in the current license, which expires on September 8, 2010.

The Board is comprised of the following administrative judges: Lawrence G. McDade, Chair, U.S. Nuclear Regulatory Commission, Washington, DC 20555-0001. Dr. Anthony J. Baratta, U.S. Nuclear Regulatory Commission, Washington, DC 20555-0001. Dr. Richard E. Wardwell, U.S. Nuclear Regulatory Commission, Washington, DC 20555-0001.

All correspondence, documents, and other materials shall be filed with the administrative judges in accordance with 10 CFR 2.302.

Issued at Rockville, Maryland, this 12th day of August 2005.
G. Paul Bollwerk, III,
Chief Administrative Judge, Atomic Safety and Licensing Board Panel.

[FR Doc. E5-4506 Filed 8-17-05; 8:45 am]

BILLING CODE 7590-01-P